SMALL BUSINESS ADMINISTRATION

[Declaration of Disaster #3627]

State of Florida; (Amendment #1)

In accordance with a notice received from the Department of Homeland Security—Federal Emergency Management Agency—effective September 17, 2004, the above numbered declaration is hereby amended to include Okaloosa County as disaster area due to damages caused by Hurricane Ivan occurring on September 13, 2004 and continuing.

All other counties contiguous to the above named primary county have previously been declared.

All other information remains the same, i.e., the deadline for filing applications for physical damage is November 15, 2004 and for economic injury the deadline is June 16, 2005.

(Catalog of Federal Domestic Assistance Program Nos. 59002 and 59008)
Dated: September 22, 2004.
Herbert L. Mitchell,
Associate Administrator for Disaster Assistance.

[FR Doc. 04-21893 Filed 9-29-04; 8:45 am]

BILLING CODE 8025-01-P